DEPARTMENT OF THE INTERIOR

Fish and Wildlife Service

Information Collection Renewal To Be Submitted to the Office of Management and Budget (OMB) for Approval Under the Paperwork Reduction Act; OMB Control Number 1018-0092, Applications for Permits/Licenses

AGENCY: Fish and Wildlife Service, Interior.

ACTION: Notice; request for comments.

SUMMARY: The U.S. Fish and Wildlife Service (We) will submit the collection of information described below to OMB for approval under the provisions of the Paperwork Reduction Act of 1995. If you wish to obtain copies of the information collection requirements, related forms, or explanatory material, contact the Service Information Collection Clearance Officer at the address or telephone number listed below.

DATES: We will accept comments until May 17, 2004.

ADDRESSES: Mail your comments on this information collection renewal request to Anissa Craghead, Information Collection Clearance Officer, U.S. Fish and Wildlife Service, ms 222-ARLSQ, 4401 North Fairfax Drive, Arlington, VA 22203; or e-mail Anissa_Craghead@fws.gov.

FOR FURTHER INFORMATION CONTACT: To request a copy of the information collection requirements, related forms, or explanatory material, contact Anissa Craghead at telephone number (703) 358-2445, or electronically at Anissa_Craghead@fws.gov.

SUPPLEMENTARY INFORMATION: OMB regulations at 5 CFR 1320, which implement provisions of the Paperwork Reduction Act of 1995 (44 U.S.C. 3501 et seq.), require that interested members of the public and affected agencies have an opportunity to comment on information collection and recordkeeping activities (see 5 CFR 1320.8(d)).

We will submit a request to OMB to renew its approval of the collection of information included in Form 3-200-1, the general permit application form; Form 3-200-2, Designated Port Exception permit application form; and Form 3-200-3, Import/Export license application form. The current OMB control number for all three of these forms is 1018-0092, and the OMB approval for this collection of information expires on July 31, 2004. We are requesting a three year term of approval for this information collection activity. We may not conduct or sponsor, and you are not required to respond to, a collection of information unless it displays a currently valid OMB control number.

The Endangered Species Act (16 U.S.C. 1531 et seq.) makes it unlawful to import or export fish, wildlife, or plants without obtaining prior permission as deemed necessary for enforcing the Act or upholding the Convention on International Trade in Endangered Species (CITES) (see 16 U.S.C. 1538(e)).

The U.S. Fish and Wildlife Service's Form 3-200-1, Permit Application Form, is the general application form for all permitted activities authorized by the Service. In the interest of making the application process simpler for the public, we have previously modified the format of the first page of Form 3-200, creating a sequence of forms such as Form 3-200-1, 3-200-2, 3-200-3, etc. This enables the public to use a specific application form when requesting permission to conduct a certain otherwise unauthorized activity. Each specific application form contains questions that are specific to the requested activity. This makes the application process easier for the public by eliminating the need to use one application form, with standard questions, to apply for any number of otherwise unauthorized activities, many of which are distinctly different from one another and could not be adequately or fairly evaluated using standard questions. In the above mentioned sequence of forms, the general Permit Application Form is designated as Form 3-200-1. Since this form has been modified for applications for specific activities as described above, it is rarely, if ever used by itself. Therefore, the annual responses and the annual burden hours resulting from the use of this form are essentially zero. Though this form is rarely, if ever, used by itself, we intend to maintain this form in the event that a general permit application form is needed at some point in the future for an unanticipated activity, one that was not provided for in the development of the sequence of forms described above.

The Service's Form 3-200-2, Designated Port Exception permit application form is the application form to request an import or export of wildlife or wildlife products at a port other than a port designated in 50 CFR 14.12. Title 50, of the Code of Federal Regulations, part 14.11 (50 CFR 14.11) makes it unlawful to import or export wildlife or wildlife products at a port other than a designated port listed in 50 CFR 14.12, unless you qualify for one of the exceptions that allow you to import or export your wildlife or wildlife products at a different port. These exceptions allow you to import or export wildlife or wildlife products at a non designated port for the following reasons: (1) For use as scientific specimens; (2) to minimize deterioration or loss; and (3) to relive economic hardship. We recognize the limitations that the requirement to use a designated port may place on certain individuals, businesses or scientific organizations. The issuance of a Designated Port Exception permit can relieve these limitations for certain qualified individuals, businesses or scientific organizations.

The Service's Form 3-200-3, Import/Export license application form, is the application form to request an import/export license. Title 50, of the Code of Federal Regulations, part 14.11 (50 CFR 14.91) makes it unlawful to import or export wildlife or wildlife products for commercial purposes without first having obtained an import/export license. We use the information obtained from Form 3-200-3 as an enforcement tool and management aid in monitoring the international wildlife market and detecting trends and changes in the commercial trade of wildlife and wildlife products. Import/export licensees are required to maintain detailed records of each importation or exportation of wildlife or wildlife products made under the import/export license, and the ultimate destination of these wildlife or wildlife products. In addition, licensees are required to make these records and the corresponding inventory of wildlife or wildlife products available for our inspection at reasonable times, subject to applicable limitations of law. This authority allows us to ensure that protected species are not being used in commercial trade.

Title: Permit application form.

Approval Number: 1018-0092.

Service Form Number: 3-200-1.

Frequency of Collection: Rarely, if ever used, for reasons described above.

Description of Respondents: Scientific institutions, businesses or individuals that request permission to conduct any number of otherwise unauthorized activities.

Total Annual Responses: 0.

Total Annual Burden Hours: 0.

Title: Designated Port Exception permit application form.

Approval Number: 1018-0092.

Service Form Number: 3-200-2.

Frequency of Collection: On occasion, whenever permission is requested to import wildlife or wildlife products at a non designated port for use as scientific specimens, to minimize deterioration or loss, or to relieve economic hardship.

Description of Respondents: Scientific institutions, businesses or individuals that import or export scientific specimens, wildlife, or wildlife products.

Total Annual Responses: Approximately 607.

Total Annual Burden Hours: The total annual burden is approximately 607 hours. We estimate the reporting burden to average one hour per response.

Title: Import/Export license application form.

Approval Number: 1018-0092.

Service Form Number: 3-200-3.

Frequency of Collection: On occasion, whenever permission is requested to import or export wildlife or wildlife products for commercial purposes.

Description of Respondents: Businesses or individuals that import or export wildlife or wildlife products for commercial purposes.

Total Annual Responses: Approximately 2,675.

Total Annual Burden Hours: The total annual burden is approximately 2,675 hours. We estimate the reporting burden to average one hour per response.

We invite comments concerning this renewal on: (1) Whether the collection of information is useful and necessary for us to do our job, (2) the accuracy of our estimate of the burden on the public to complete the form; (3) ways to enhance the quality and clarity of the information to be collected; and (4) ways to minimize the burden of the collection on respondents, including use of appropriate automated, electronic, mechanical, or other technological collection techniques or other forms of information technology. This information collection is part of a system of records covered by the Privacy Act (5 U.S.C. 552(a)).

Our practice is to make comments, including names and home addresses of respondents, available for public review during regular business hours. Individual respondents may request that we withhold their home addresses from the record, which we will honor to the extent allowable by law. There may also be limited circumstances in which we would withhold a respondent's identity from the rulemaking record, as allowable by law. If you wish us to withhold your name and/or address, you must state this clearly at the beginning of your comment. We will not consider anonymous comments. We generally make all submissions from organizations or businesses, and from individuals identifying themselves as representatives or officials of organizations or businesses, available for public inspection in their entirety.

Dated: March 1, 2004.
Anissa Craghead,
Information Collection Officer, Fish and Wildlife Service.

[FR Doc. 04-5830 Filed 3-15-04; 8:45 am]

BILLING CODE 4310-55-P